DEPARTMENT OF THE TREASURY

Bureau of the Fiscal Service

Extension of a Currently Approved Information Collection: Application Forms for U.S. Department of the Treasury Stored Value Card (SVC) Program

ACTION: Notice and request for comments.

SUMMARY: The Department of the Treasury, as part of its continuing effort to reduce paperwork and respondent burden, invites the general public and other Federal agencies to take this opportunity to comment on proposed and/or continuing information collections, as required by the Paperwork Reduction Act of 1995. Currently the Bureau of the Fiscal Service within the Department of the Treasury is soliciting comments concerning the Application Forms for U.S. Department of the Treasury Stored Value Card (SVC) Program.

DATES: Written comments should be received on or before January 27, 2026 to be assured of consideration.

ADDRESSES: Direct all written comments and requests for additional information to Bureau of the Fiscal Service, Bruce A. Sharp, Room #4006-A, P.O. Box 1328, Parkersburg, WV 26106-1328, or bruce.sharp@fiscal.treasury.gov.

SUPPLEMENTARY INFORMATION:

Title: Application Forms for U.S. Department of the Treasury Stored Value Card (SVC) Program.

OMB Number: 1530-0013.

FS Form 2887—Application Forms for U.S. Department of the Treasury Stored Value Card (SVC) Program; FS Form 2889—U.S. Department of The Treasury Stored Value Card Contractor Agreement; and FS Form 5752—Authorization To Disclose Information Related To Stored Value Account.

Abstract: This collection of forms is used to collect information from individuals requesting enrollment in the Treasury SVC program along with supplemental information for contractors choosing to participate in the program, to obtain authorization to initiate debit and credit entries to their bank or credit union accounts, and to facilitate collection of any delinquent amounts. Disclosure of the information requested on the forms is voluntary; however, failure to furnish the requested information may significantly delay or prevent participation in the Treasury SVC program.

Current Actions: Extension of a currently approved collection.

Type of Review: Regular.

Affected Public: Individuals or households.

Estimated Number of Respondents: 102,030.

Estimated Time per Respondent: 10 minutes for FS Form 2887 and FS Form 2889; 1 minute for FS Form 5752.

Estimated Total Annual Burden Hours: 17,001.

Request for Comments: Comments submitted in response to this notice will be summarized and/or included in the request for OMB approval. All comments will become a matter of public record. Comments are invited on: 1. Whether the collection of information is necessary for the proper performance of the functions of the agency, including whether the information shall have practical utility; 2. the accuracy of the agency's estimate of the burden of the collection of information; 3. ways to enhance the quality, utility, and clarity of the information to be collected; 4. ways to minimize the burden of the collection of information on respondents, including through the use of automated collection techniques or other forms of information technology; and 5. estimates of capital or start-up costs and costs of operation, maintenance, and purchase of services to provide information.

Dated: November 25, 2025.
Bruce A. Sharp,
Bureau PRA Clearance Officer.

[FR Doc. 2025-21518 Filed 11-26-25; 8:45 am]

BILLING CODE 4810-AS-P